DEPARTMENT OF THE INTERIOR

[(NM-080-1430-EU; Serial No. NMNM-104317)]

Noncompetitive Sale of Public Lands in Eddy County

AGENCY: Bureau of Land Management, Interior.

ACTION: Notice of Realty Action.

SUMMARY: The following land has been found suitable for direct sale under Section 203 of the Federal Land Policy and Management Act of 1976 (90 Stat. 2750, 43 U.S.C. 1713), at no less than the appraised fair market value of $20,000. The land will not be offered for sale until at least 60 days after the date of this notice.

T. 17 S., R. 30 E., NMPM

Sec. 20: Lots 13, 14, 15, S½SE¼NE¼SE¼

Containing approximately 5 acres.

The land is hereby segregated from appropriation under the public land laws, including the mining laws. The segregative effect of the notice of realty action shall terminate upon issuance of patent or other document of conveyance to such lands, upon publication in the Federal Register of a termination of the segregation, or 270 days from date of publication, whichever occurs first.

The land is to be offered by direct sale to Ray Westall, to correct an encroachment on public land. The subject lands are not required for any other Federal purpose and meet the disposal criteria of the regulations contained in 43 CFR 2711.3-3(a)(2).

The patent, when issued, will reserve all minerals to the United States and will be subject to existing rights-of-way. Detailed information concerning the reservation, as well as specific conditions of the sale, are available for review at the Carlsbad Field Office, Bureau of Land Management, 620 East Greene, Carlsbad, New Mexico 88220.

For a period of 45 days from May 2, 2001, interested parties may submit comments to Bobbe Young, Lead Realty Specialist, P.O. Box 1778, Carlsbad, NM 88220. Any adverse comments will be evaluated by the Field Manager, who may vacate or modify this realty action and issue a final determination. In absence of objections, this realty action will become the final determination of the Department of the Interior.

Dated: April 12, 2001.
Leslie A. Theiss,
Field Manager.

[FR Doc. 01-10914 Filed 5-1-01; 8:45am]

BILLING CODE 4310-VA-M